FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012036-001.

Title: Maersk Line/MSC TP5 Space Charter Agreement.

Parties: A.P. Moeller-Maersk A/S and Mediterranean Shipping Company S.A.

Filing Party: Wayne R. Rohde, Esq.; Sher & Blackwell LLP; 1850 M Street, NW., Suite 900; Washington, DC 20036.

Synopsis: The amendment adds the People's Republic of China to the geographic scope of the agreement and adds the consent of Maersk Line to certain sub-chartering of space by MSC.

Agreement No.: 012075.

Title: MSC/CMA CGM North Europe-U.S. Atlantic and Gulf Vessel Sharing Agreement.

Parties: CMA CGM S.A. and Mediterranean Shipping Company S.A.

Filing Party: Wayne R. Rohde, Esq.; Sher & Blackwell LLP; 1850 M Street, NW., Suite 900; Washington, DC 20036.

Synopsis: The agreement authorizes the parties to share vessel space in the trades between U.S. Atlantic Coast and Gulf Coast ports and ports in North Europe, the Bahamas, and on the Caribbean Coast of Mexico.

By Order of the Federal Maritime Commission.
Karen V. Gregory,
Secretary.

[FR Doc. E9-19902 Filed 8-18-09; 8:45 am]

BILLING CODE P